DEPARTMENT OF HEALTH AND HUMAN SERVICES

Health Resources and Services Administration

Health Center Program

AGENCY: Health Resources and Services Administration, HHS.

ACTION: Notice of Non-competitive Replacement Awards to Sunset Park Health Council, Inc.

SUMMARY: The Health Resources and Services Administration (HRSA) will transfer Health Center Program (Section 330(h) of the Public Health Service Act) funds originally awarded to Saint Vincent's Catholic Medical Centers of New York to Sunset Park Health Council, Inc., to ensure the continuity of services to low-income, underserved, homeless patients in New York City.

SUPPLEMENTARY INFORMATION: Former Grantee of Record: Saint Vincent's Catholic Medical Centers of New York.

Original Period of Grant Support: November 1, 2007 to October 31, 2010.

Replacement Awardee: Sunset Park Health Council, Inc.

Amount of Replacement Award: $1,288,436.

Period of Replacement Award: The period of support for the replacement award is June 1, 2010 to October 31, 2010.

Authority: Section 330(h) of the Public Health Service Act, 42 U.S.C. 245b.

CDFA Number: 93.703.

Justification for Exception to Competition: The former grantee, Saint Vincent's Catholic Medical Centers of New York, has relinquished all grants. Saint Vincent's Catholic Medical Centers of New York's inpatient services has closed, and Saint Vincent's Catholic Medical Center of New York has filed for bankruptcy under Chapter 11. The former grantee has requested that HRSA transfer the Health Center Program Section 330(h) funds to SPHC in order to implement and carry out grant activities originally proposed under SVCMC funded Section 330(h) grant applications.

SPHC has been engaged in the delivery of primary health care services in the local area and is a current Section 330 grantee who indicated an ability to assume operations without a disruption of services.

The short-term transfer of the 330(h) funds will ensure that critical primary health care services continue and remain available to low-income, underserved, homeless patients with no interruption in services to the target population.

FOR FURTHER INFORMATION CONTACT: Marquita Cullom-Scott via e-mail at MCullom-Scott@hrsa.gov or 301-594-4300.

Dated: August 26, 2010.
Mary K. Wakefield,
Administrator.

[FR Doc. 2010-21836 Filed 8-31-10; 8:45 am]

BILLING CODE 4165-15-P